DEPARTMENT OF LABOR

Employment and Training Administration

Preparing Ex-Offenders for the Workplace Through Beneficiary-Choice Contracting; Solicitation for Grant Applications

Announcement Type: New. Notice of solicitation for grant applications.

Funding Opportunity Number: SGA/DFA PY-06-14.

Catalog of Federal Domestic Assistance (CFDA) Number: 17,261.

Key Dates: The closing date for receipt of applications under this announcement is May 25, 2007. Applications must be received no later than 4 p.m. (Eastern Time). Application and submission information is explained in detail in Section IV of this SGA.

There will be an informational webinar held for this grant competition. Information on the date/time of this webinar and a recording for applicants who cannot attend will be available on www.dol.gov/cfbci.

Summary: The Employment and Training Administration (ETA), U.S. Department of Labor (DOL), announces the availability of approximately $5 million in Responsible Reintegration of Youthful Offender grant funds to address the specific workforce challenges of ex-offenders and produce positive outcomes with a particular focus on employment and reduced recidivism. Projects funded under this competition will be consistent with both DOL's Youth Vision and President Bush's Faith-Based and Community Initiative.

Grant funds awarded under this competition will be used to implement a program of services for ex-offenders (ages 18 to 29) under a beneficiary-choice contracting model. The beneficiary choice contracting model, to be explained more fully later, involves providing program participants with an independent choice among multiple service providers for specific services. Participants will receive case management services from the grantee, but will choose among contracted specialized service providers for more in-depth services, including soft-skills training and long-term follow up on participant outcomes. The grantee will compensate the contracted specialized service providers on a per capita basis for services provided, as well as per capita performance-based incentives.

The overarching objective of these programs will be to help ex-offenders receive services and training, enter and retain employment, and avoid recidivism. Each application must provide evidence of partnerships with a network of faith-based and community organizations (FBCOs), the public workforce investment system and the criminal justice system. Strategic partnerships between business representatives from high-growth/high-demand industries and the education and training community are also encouraged. It is anticipated that individual awards will average $1,000,000 for the first year of operation to serve 225 participants per site.

Supplementary Information: This solicitation provides background information on Beneficiary Choice Contracting and critical elements required of projects funded under the solicitation. It also describes the application submission requirements, the process that eligible applicants must use to apply for funds covered by this solicitation, and how grantees will be selected. This announcement consists of eight parts:

• Part I provides background information on Beneficiary Choice Contracting, DOL's Youth Vision, and The President's Faith-Based and Community Initiative.

• Part II describes the size and nature of the anticipated awards.

• Part III describes the qualifications of an eligible applicant.

• Part IV provides information on the application and submission process.

• Part V explains the review process and rating criteria that will be used to evaluate applications.

• Part VI provides award administration information.

• Part VII contains ETA contact information.

• Part VIII contains other information for applicants.

Part I. Funding Opportunity Description

1. Background

Experts estimate that each year more than 650,000 inmates are released from Federal and State prisons and return to their communities and families. The return of these ex-prisoners threatens the fragile cohesion in many of the most troubled neighborhoods in America. Without help, a majority of ex-prisoners return to criminal activity. For example, according to the U.S. Department of Justice, 68 percent of inmates will be charged with new crimes within three years of their release from prison, and 47 percent will be reconvicted.

Released prisoners face a myriad of challenges that contribute to a return to criminal activity, re-arrest, and re-incarceration. Joblessness among ex-prisoners has been broadly linked to recidivism rates. Statistics reveal that even before incarceration, adult prisoners demonstrate weak or non-existent ties to the workforce. Data from 1997 show that nearly one-third of adult prisoners were unemployed in the month before their arrest, compared to seven percent unemployment in the general population. Post-incarceration employment rates only get worse—unemployment among ex-prisoners has been estimated at between 25 and 40 percent. Likewise, prisoners also demonstrate low levels of educational attainment. Nineteen percent of adult State prisoners are completely illiterate and 40 percent are functionally illiterate; over half of State parole entrants were not high school graduates and as many as eleven percent had an eighth grade education or less.

Research has also broadly documented the substance abuse and mental health issues of ex-prisoners—factors that are likely to contribute to poor education levels, lack of employability, and a return to criminal activity. A study of parolees from State prisons in 1999 found that 84 percent had been using an illegal drug or abusing alcohol at the time of their offense. One-quarter had been alcohol dependent and one-quarter had been IV drug users. Fourteen percent had a mental illness and twelve percent were homeless at the time of their arrest. In some States, nearly one-quarter of parole revocations were related to drug-related violations.

In returning to criminal activity, ex-prisoners contribute to the presence of violence and crime in already struggling neighborhoods and reduce their own chances of living healthy and positive lives or contributing to their families. Research indicates that parental loss is related to a host of poor outcomes for children that include poverty, drug abuse, educational failure, criminal behavior, and premature death. Healthy and consistent relationships between parents and children strengthen the community by positively impacting both generations. Ex-offenders with strong family and community ties have greater success in reintegrating into the community and avoiding incarceration.

In order to successfully reintegrate into the community, it is essential that ex-offenders possess the skills and support necessary to enter and compete in the workforce. This solicitation is designed to draw on the unique strengths of faith-based and community organizations that may not readily partner with the government under more typical funding mechanisms. These organizations will serve as a primary partner for social service delivery to ex-prisoners, offering highly personalized support as well as a direct link into the communities to which the ex-prisoners are returning. The program also seeks to coordinate the provision of these services with judicial system supervision of the released prisoners by working with parole and probation officers.

Community-based partners are well suited for this work because they can provide the resources and infrastructure necessary to intervene in the lives of returnees and interrupt cycles of crime and incarceration. This grant will rely heavily on FBCOs to develop relationships and ensure connections to rehabilitation services for the formerly incarcerated. Research indicates that faith-based and community institutions are among the strongest, most trusted institutions in the urban neighborhoods to which the majority of released inmates will return. Local faith-based and community organizations possess many resources at their command—including buildings, volunteers, the respect of the community and a rich tradition of outreach and service. Churches, mosques, temples, service organizations, and community centers can be especially significant in impoverished urban areas, where FBCOs have historically had a strong presence.

Many FBCOs also possess a proven ability to work collaboratively with other service providers and justice agencies for the delivery of social services. This is a vital asset since many FBCOs in poor urban neighborhoods are small and possess limited financial resources. To effectively ensure connections to job training and social services, they must build collaborations with other public and private organizations. A substantial number of inner-city faith-based and community leaders already operate re-entry programs. This initiative will help develop and expand these programs that provide job training, mentoring and other transitional services that help ex-offenders avoid recidivism and become contributing members of their communities.

Objectives

This program is designed to operate via a beneficiary-choice contracting model. Under this model, the individual receiving government-funded services (beneficiary) is offered a genuine and independent choice among multiple providers. Each provider offers the same core services, as well as a unique combination of related services. Since service providers are allowed flexibility in the combination of and approach to services they offer, this model fosters a diversity of service styles in service delivery. This diversity, in turn, enables each recipient to choose the provider best suited to his or her unique needs and encourages a greater personal engagement as the recipient takes ownership in choosing among a variety of services and providers. The approach allows flexibility and freedom to both participants and providers, and enables organizations that might be disinclined to partner with the government in a more constrained environment to consider doing so.

Grant objectives for this program include:

• Positive outcomes for participants, including lower recidivism, successful employment and increased job retention;

• Drawing upon the unique strengths of many faith-based and community groups that may not readily partner with the government under more typical funding mechanisms; and

• Serving as a model for Federal, State and local agencies looking to implement beneficiary-choice contracting.

Service Model

Grants will be awarded to faith-based and community organizations, Workforce Investment Boards, One-Stop Career Centers, corrections agencies, and other State or local agencies. The grantee will act as the central services coordinator (services coordinator). Participants can be recruited in many different ways, including by referrals to the services coordinator directly by the courts, parole agencies, criminal justice agencies, local One-Stop Career Centers, Youth Build programs or other service providers. A referral network of service providers must also be developed and maintained by each grantee.

Services Coordinator

Participants will be enrolled by the services coordinator, which will provide case management and referral to program services. The services coordinator will conduct an initial assessment of the participant's needs and interests and then offer him or her a genuine and independent choice among a variety of approved specialized service providers for in-depth services. The participant will make this choice based on summaries of the specialized service providers that include a description of the services offered (both core and specialized) by each sub-contractor (listed below). This participant choice must be free, independent and informed. The service coordinator may discuss the participants needs discovered in the initial assessment, but once the choice process has begun, each participant must make the choice of specialized service providers based on the neutral information given to him or her by the service coordinator.

The services coordinator will provide case management to all participants that enroll in the program. The services coordinator will also manage relationships and contracts with its network of specialized service providers. Expenditures by the services coordinator on its own activities and expenses cannot account for more than 40% of grant funds. This includes funds reserved for services and program administration, including technical assistance and oversight. At least 60% must be spent on services for participants through specialized service providers serving program participants.

All grantee sites must include access to a wide variety of services that ex-offenders need to successfully transition into employment. As services coordinators, grantee organizations will:

• Identify and recruit participants;

• Provide basic intake services, including assessment of needs and interests;

• Offer each participant a genuine and independent choice among service providers—including at least one provider of non-religious-based services;

• Require informed consent forms of individuals choosing services that contain religious content;

• Provide ongoing case management;

• Aid recipients in making full use of all services available through local One-Stop Career Center systems, including, when possible, Individual Training Accounts;

• Develop a referral process for services. Through this referral process the service coordinator will ensure that there is a provider of non-religious-based (secular) service for every religious-based service offered;

• Recruit employers that are willing to employ program participants; and

• Develop a data collection strategy.

As manager of its contracts with specialized service providers, grantee organizations will:

• Design guidelines and baseline criteria for service provider organizations' participation. These objective criteria would require a level of quality in basic services offered. In addition, preference in selecting specialized service provider sub-contractors should be given to organizations that provide a diverse offering of supplementary services;

• Recruit a minimum of five specialized service providers—including FBCOs;

• Ensure at least one specialized service provider that offers non-religious-based services;

• Establish performance-based contracts with service provider organizations;

• Oversee grant data collection procedures and compilation;

• Aid service providers in compliance with necessary reporting and other compliance issues;

• Deliver contract payment to service providers; and

• Perform all other aspects of managing the Federal grant—including fiscal controls and responsibility.

After obtaining the consent of the participant, the services coordinator must share information including basic contact information, assessment information and any other pertinent information with the chosen service provider. Case management must also be provided in coordination with the specialized service provider so as to minimize duplication and confusion for the participant.

Service coordinators must also develop a referral system to address participant needs beyond those addressed by the core services offered. The service coordinator must develop a functional referral system to provide participants referrals to other specialized services beyond core services that might not be met through specialized service providers. Through this referral process the service coordinator will ensure that that there is at least one provider of non-religious-based (secular) service if that same specialized service is offered through religious-based service by the sub-contractors. Services that the coordinator may provide referrals for include transitional housing, substance abuse treatment, health services (including mental health services and counseling), continuing education system (including alternative schools and community colleges), and the One-Stop Career Center. The services coordinator will maintain relationships with organizations/entities offering these specialized services and must keep updated information on each referral partner to ensure there is always a current list of referral partners. This referral list must be kept separate from the specialized service provider list. However, specialized service providers may also be listed on this referral list.

Specialized Service Provider

Based upon an established performance-based contract with the grant recipient organization (services coordinator), specialized service provider organizations will offer specific services to participants. A single organization or its affiliates, cannot serve as both coordinator and a specialized service provider.

The services coordinator will offer the participant a genuine and independent choice of providers. The services coordinator will then refer the participant to the chosen specialized services provider. The specialized service provider will receive both the participant and their needs assessment from the services coordinator. The specialized service provider will then use both the prior assessment and its own in-person meetings with the participant to develop an individual services plan, which will serve as a guide for both the provider and the participant as he/she works through the program. Any case management provided by the specialized service provider must also be coordinated with the services coordinator so as to minimize duplication and confusion for the participant.

All specialized service providers will be required to provide the following core services:

• Work readiness training (e.g. soft skills, life skills and/or basic skills);

• Career counseling (e.g. one-on-one or group mentoring); and

• Follow-up on participants' post program outcomes for a minimum of six months.

In addition to core services, it is expected that specialized service providers offer other useful services for ex-offenders transitioning into the workplace. These supplementary services, offered either directly or through partnerships with other organizations, could include:

• Counseling (including anger management, addiction, family, social reintegration, etc.)

• Transitional housing

• Substance abuse and alcohol prevention

• Child care services

• Mentoring

• English proficiency courses

• Job placement

• Alternative secondary school offerings (GED preparation)

• Financial literacy

• Job retention services

• Supportive services (e.g. bus passes, interview clothing, fees for GED testing, etc.)

• Tutoring, study skills training, instruction, and degree attainment (e.g. GED, Associates Degree or technical certificate)

Specialized service providers will be compensated on a per-capita basis based upon their contract with the services coordinator. Partial compensation will be provided on a per-capita basis after the participant has enrolled in the program. The remainder payment(s) will be based on attainment of specific outcomes: completion of course curriculum, job placement, job retention and non-recidivism.

Specialized service providers will be responsible for tracking outcomes on clients served, services provided, completion of services rendered, job placement, job retention, earnings and recidivism. Specialized service providers must report back to the services coordinator on all the services received and outcomes for participants served under the grant.

As part of the grant application process, the applicant must submit a detailed Memorandum of Agreement (MOA) with at least three specialized service providers that describe the specialized service provider's firm commitment to act as a subcontractor in the program. This MOA will describe the role of the services coordinator and specialized service provider, the core and supplementary services to be provided, and the method of payment for these services. A minimum of five specialized service providers must be a part of each grant program when services begin. Specialized service providers include faith-based and community organizations. Specialized service providers are to be selected without regard to religious character affiliation, or lack thereof. At least one specialized service provider at each site, however, must offer non-religious-based (secular) services. Participants may not choose more than one specialized service provider from whom to receive core services.

Partnership With Workforce Investment System

A grantee must develop a functioning referral system with its local One-Stop Career Center and Workforce Investment Board. While the nature of these referral relationships will vary, grantees may enter into agreements with the workforce investment system to assist with assessments of participants, development of individual employment service strategies, enrollment in training programs, and placement into jobs.

As part of the application process, the applicant must submit an MOA with their local Workforce Investment Board/One-Stop Operator that describes the One-Stop Operator's firm commitment to entering into, at a minimum, a formal referral partnership with the applicant. This formal partnership should produce two-way client referrals from the One-Stop Career Center to the applicant and from the applicant to the One-Stop Career Center on which the applicant will be required to report, as well as appropriate access to One-Stop Career Center resources. The MOA must describe that the One-Stop Operator has acknowledged that the applicant organization is complementing the services provided by the One-Stop Career Center. If an agreement with the One-Stop Operator is not provided, the applicant should, at a minimum, demonstrate that the One-Stop Operator was contacted and provided a sufficient opportunity for response.

Partnership With Local Corrections Agency

The applicant must also submit an MOA from at least one local corrections agency with which the applicant will work on this project. This document will also describe the corrections agency's firm commitment to entering a formal referral partnership with the applicant.

This formal partnership will produce referrals from the local detention facility to the grantee. This may include pre-release sessions with soon-to-be-released inmates on the nature of the programs and developing important pre-release relationships, especially in the area of mentoring, where appropriate. The agreement must describe that the corrections agency has acknowledged that the applicant organization and its subcontractors will provide reentry services that will assist former inmates. If an agreement with the local corrections agency is not provided, the applicant should, at a minimum, demonstrate that the agency was contacted and provided sufficient opportunity for response. Similar agreements with parole and probation agencies are also encouraged.

Outcomes

As this is an employment-focused program, the U.S. Department of Labor is funding specific employment-based services and outcomes. Four outcome measures will be used to measure success in these grants: Entered employment rate, employment retention rate, earnings, and recidivism rate. In addition, grantees will report on a number of leading indicators that will serve as predictors of success. Leading indicators will include: Enrollment rate; participation in education/training; workforce preparation; mentoring; attainment of degrees and certificates; reduced substance abuse; proportion of enrollees in stable housing (beyond 90 days post-release); and proportion of enrollees complying with parole conditions. In applying for these grants, grantees and their sub-contractors agree to submit updated Management Information System (MIS) data on enrollee characteristics, services provided, placements, outcomes, and follow-up status.

Evaluation

There will be a formal evaluation of this initiative. In applying for these grants, applicants and their sub-contractors agree to cooperate in this evaluation by providing enrollment and participation data and other information during all years of the project.

2. DOL's Youth Vision

The White House Taskforce on Disadvantaged Youth notes that despite the billions of Federal, State, local, and private dollars spent on needy youth and their families, many out-of-school, at-risk youth are currently being left behind in our economy because of a lack of program focus and emphasis on outcomes. Well-designed and coordinated programs offer youth who have become disconnected from mainstream institutions and systems additional opportunities to successfully transition to adult roles and responsibilities. DOL's Youth Vision focuses on four major areas: Improving alternative education services to youth, meeting the demands of business, especially in high-growth industries and occupations, serving the neediest youth, and improving program performance. Applicants are encouraged to demonstrate a commitment to these objectives in their program design and application.

3. The President's Faith-Based and Community Initiative

President Bush's Faith-Based and Community Initiative is built on a simple conviction: America can do better for our neighbors in need when we enlist every partner willing to join in service. Advancing this goal first requires ensuring a “level playing field” for all organizations willing to join with the government in service, including ones that may have been excluded in the past. The Center for Faith-Based and Community Initiatives at the U.S. Department of Labor (the Center) has worked to eliminate any barriers preventing effective organizations from partnering with the government. Equally important, the Center works with all agencies of the Department of Labor to cultivate public/nonprofit/private partnerships nationwide to make its services both more comprehensive and more effective.

A critical aspect of removing barriers and forging new partnerships involves expanding opportunities for choice-based social services. In addition, because participants make an independent choice among providers, the organizations providing services enjoy greater flexibility to incorporate elements that would not otherwise be permitted in more typical government-funded programs, including religious aspects. This freedom results in a broader and more diverse social safety net since organizations that may have had little interest in partnering with government programs under more typical scenarios may be willing to become providers of government-funded services. While more traditional social services may be ideal for some program participants, others may benefit tremendously from the unique and innovative programs offered by new providers. The opportunity to make real choices can also serve to empower program participants and increase their sense of engagement in the services they receive.

Whatever the social service may be, faith-based and community organizations have an indispensable role to play. Their networks of dedicated volunteers, local knowledge, and deep roots in their communities provide a tremendous complement to more traditional government-funded programs. This enables maximum impact for taxpayer dollars. Most significantly, the service of faith-based and community organizations can have a deep and abiding impact on the individuals they serve and the community as a whole.

Applicants are encouraged to demonstrate a commitment to these objectives in their program design and application.

4. Areas of ETA Emphasis for This SGA

ETA has developed six areas of emphasis for projects funded through this SGA: (1) Increasing service provider choice for ex-offenders returning to their communities; (2) helping ex-offenders connect to local FBCOs to receive support services that increase attachment to the labor market; (3) building strategic partnerships; (4) leveraging resources; (5) achieving high-performance outcomes; and (6) replicability. These areas of emphasis are taken into account in the evaluation of proposals.

• Increasing Service Provider Choice for Ex-Offenders Returning to Their Communities. This SGA places great emphasis on ensuring that participants are able to choose the organization and services that will best suit their needs. Not only does this give the participant a sense of ownership of the program, it also enables him/her to select the services that address their specific needs. This SGA also requires a diverse assortment of providers for the participant to choose from. It is anticipated that broader choices and greater participant engagement will provide higher employment and lower recidivism among participants.

• Helping Ex-Offenders Connect to Local FBCOs To Receive Support Services That Increase Attachment to the Labor Market. Faith-based and community organizations are well equipped to provide aid and support to people in need. Many such organizations have been serving for decades in some of America's most resource-poor neighborhoods, and are strengthened by dedicated volunteers, local knowledge, and deep roots in their communities. This SGA will help establish formalized links with FBCOs that already provide many valuable support services to ex-offenders returning to the community, and will draw upon their strengths to provide support that will enable ex-offenders to succeed in the workplace and avoid repeating past mistakes.

• Building Strategic Partnerships. ETA believes that strategic partnerships between faith-based and community organizations and the public workforce investment system, business and industry representatives, the correctional system, and education and training providers such as community colleges, are vital to ensuring that participants gain the skills and competencies necessary to enter and advance in the workplace.

In order to maximize success, each partner must be engaged in its area of strength and have a clearly defined role in the partnership. For example, faith-based and community organizations can provide a highly personal connection to participants, as well as services that can prove decisive in job retention, such as mentoring and soft-skills training. Employers provide work-based opportunities for participants. Community colleges and other education and training providers assist in providing training for new and incumbent workers. The corrections system makes referrals to the program and can provide external impetus to participants for their own success. The workforce investment system may assist with the assessments of participants, develop individual service strategies, enroll them in training programs, place trained participants into jobs and conduct follow-up. A wide range of other partner roles and responsibilities can be included in the design and implementation of a beneficiary-choice model.

• Leveraging Resources. Applicants should utilize funds and resources from other entities. Leveraging resources in the context of strategic partnerships accomplishes three goals: (1) using the entirety of resources available through a clearly defined strategy; (2) increasing stakeholder investment in the project at all levels, including design and implementation phases; and (3) broadening the impact of the project itself.

Businesses, faith-based and community organizations, and foundations often invest resources to support workforce development. In addition, other government programs may provide resources, including WIA funds reserved for Statewide activities, local WIA Youth formula funds, State juvenile justice funds, Federal No Child Left Behind education funds, Chaffee, Runaway and Homeless funds and State education funds. ETA encourages applicants and their partners to be entrepreneurial as they seek out, utilize, and sustain these resources while creating effective, innovative projects for ex-offenders.

Applicants will be rated in part on their ability to demonstrate commitments of leveraged resources. These leveraged resources may be either in-kind or cash contributions. Please note, Rating Criteria D specifically awards points for the use of leveraged resources. While the failure to offer leveraged resources as a part of an application will not preclude consideration of the application, it will place the applicant at a significant disadvantage since one of the evaluation criteria evaluates the quality of leveraged resources. Applicants must describe in detail how such leveraged funds will be used and demonstrate how these funds will contribute to the goals of the project.

• High Performance Outcomes. DOL expects that 225 ex-offenders through the adult criminal justice system will be served during the first year of operation at each site awarded a grant under this SGA. The measured outcomes for this initiative will include education or job training, placement in employment, increased retention, and reduced recidivism. The ultimate success of this project will hinge upon the strength of these quantifiable results.

• Replicability. As mentioned above, this SGA will test the beneficiary-choice model in the context of services provided to ex-offenders. If successful, materials will be created from this program that will provide substantive guidance to Federal, State and local agencies for implementation of beneficiary-choice contracting—both in reentry services and a wide array of other government-funded services.

5. Examples of Projects That Could Be Funded Under This Solicitation

Types of projects that could be funded under this SGA include, but are not limited to, the following examples. Please note that these are only examples, and applicants are encouraged to propose alternative approaches. All proposals will be judged on their own merits.

Example 1

Project Hope of Sklar County, a non-profit 501(c)(3) organization, is awarded a $1,000,000 grant under the Beneficiary-Choice Contracting Pilot Program. It will serve as the central services coordinator. Project Hope formalizes its plans and documents laying out the services it and its future partners will provide, and then aggressively publicizes an informational meeting for social service providers that would be willing to contract with Project Hope to serve ex-offenders.

Ultimately, Project Hope enters formal contracts with six non-profit organizations and one for-profit organization: Dreams Unlimited, Kronberg Service Center, Shepherd of the Valley Fellowship, The Sklar Jewish Union, Anglican Ministries, and Briggs Work Aid, Inc. Project Hope will be known as the “services coordinator,” and the six contractors will be known as specialized service providers. At least one of the non-profit organizations, Kronberg Service Center, will offer an entirely non-religious program, as does Briggs Work Aid, Inc.

Project Hope will identify and recruit ex-offenders, working closely with the local criminal justice agency. It will provide basic intake services and needs assessments to each participant, and offer participants information on the differences between each of the six specialized service providers. Participants are then free to choose from among the six providers for the services they will receive. Participants that opt to receive services with religious content must sign an informed consent form.

In addition to its contractual relationships with the specialized service providers, Project Hope will provide participants with an in-depth referral list of service providers that includes both religious-based and non-religious-based (secular) specialized services. In addition, it maintains regular contact with the local One-Stop Career Center, ensuring that participants make full use of all services available through the local One-Stop Career Center, including Individual Training Accounts to address their needs beyond those met by the core services provided.

Once the participant is referred to the specialized service provider, Project Hope will continue to provide overall case management, ensure that the participant has access to other available complementary resources, and compile data collection on all participants.

Under the terms of the contracts, each of the six organizations will provide certain core services, including work readiness training (e.g. soft skills, life skills and/or basic skills), career counseling and follow-up with participants post program activity. In addition, each organization will make a unique combination of supplementary services available to the participants it serves. For example, Dreams Unlimited offers counseling, substance abuse prevention training, English proficiency courses, financial literacy education and job placement services. Both the Kronberg Service Center and Shepherd of the Valley Fellowship offer one-on-one mentoring, GED preparation, and child care services. Sklar Jewish Union offers group mentoring, individual counseling, and a six-month residential substance abuse recovery program. Anglican Ministries provides transitional housing and child care services. Briggs Work Aid, Inc provides job placement and retention services as well as several different supportive services including bus passes and appropriate interview attire.

The contracts set out clear guidelines for compensation to the specialized service providers, which is provided monthly on a per capita basis. Project Hope will provide $500 for each participant that chooses and is subsequently registered by a specialized service provider. It will then provide $400 for each participant that completes the specialized service providers' soft skills curriculum. Project Hope will provide additional performance-based compensation of $1,800 per participant that achieves one of three major milestones: Holding unsubsidized employment for more than 90 days, completing an accredited vocational training certification or at least one semester at an accredited institution of higher learning, or acquiring a GED.

Project Hope will contribute $75,000 of its own funds so that it can serve approximately 300 participants rather than the minimum of 225. In addition, it has received a $100,000 grant from the Lokkesmoe Foundation that Project Hope will use to pay the community college or vocational school fees of participants that opt to seek further education.

Example 2

The local One-Stop Career Center serves as the services coordinator and enters contracts with specialized service providers to deliver services. The One-Stop Career Center will provide all of the services of the services coordinator listed above—identify and recruit ex-offenders, identify and recruit specialized service providers, provide basic intake services, including assessment of needs and interests, offer each participant a choice among service providers (including at least one provider of non-religious-based (secular) services), require informed consent forms of individuals choosing services with religious content and provide case management. The One-Stop Career Center will also be uniquely suited to making full use of all training and placement services available through the workforce investment system—including, when possible, Individual Training Accounts. In addition to its contractual relationships with the specialized service providers, the One-Stop Career Center will provide participants with an in-depth referral list of service providers that includes both religious-based and non-religious-based (secular) services.

As grant manager, the One-Stop Career Center is also responsible for designing guidelines for specialized service providers' participation, recruiting providers of targeted services, ensuring at least one provider of non-religious services, establishing performance-based contracts with the provider organizations, overseeing grant data collection procedures and compilation and fiscal controls, delivering contract payment to service providers, and performing all other aspects of managing the Federal grant. The One-Stop Career Center also has an agreement with the local criminal justice agency for participant recruitment purposes.

The network of specialized service providers is composed of faith-based and community organizations (FBCOs) as well as other service providers.

Each specialized service provider must enter a contract committing to provide soft-skills training (i.e. work readiness, life skills and/or basic skills), career counseling and long-term follow up, and most providers provide supplementary services. Providers receive compensation of $300 as a registration fee for each participant that chooses to enter their program. In addition, providers will receive $900 for each participant that completes the soft-skills training offered by the provider. They will receive $900 if the participant remains out of prison for 90 days. They will receive $500 if the participant remains retained in employment for 90 days, and an additional $500 for 180 days of employment. (The One-Stop Career Center is aware that if all participants achieved performance goals, the cost of $3,100 per participant it would add up to more than the grant provides. However, the One-Stop Career Center will make up for this short-fall both by additional financial contributions and the fact that a certain percentage of program participants will not achieve performance goals.)

Part II. Award Information

1. Award Amount

ETA intends to fund grants for five projects, to serve 225 individuals (age 18 to 29) through the adult criminal justice system, per year, at an average annual grant amount of $1,000,000 per site. Applicants may submit proposals within the range of $800,000 to $1,200,000. A larger or smaller amount may be requested based on the number of participants proposed to serve, but deviations from this amount must be clearly justified in the application.

2. Period of Performance

The period of grant performance will be 22 months from the date of execution of the grant document. This performance period shall include 4 months of organizational preparation, 12 months of service delivery, and six months of follow-up data collection. Depending on the availability of funds and satisfactory performance, additional years of funding may be available for these grants. In addition, ETA may elect to exercise its option to award no-cost extensions to these grants for an additional period based on the satisfactory progress of the program in placing participants in jobs, education, training, mentoring, and reducing the recidivism of participants.

The probability of continuation of grants beyond the initial period of grant performance will be greatly reduced for those grantees that do not begin providing services by the end of the first four months. No more than ten percent of the services coordinator budget is to be used in the four-month planning period. Grantees are expected to reserve a portion of their grant funding to continue to report on recidivism and employment outcomes for up to six months after services end.

Part III. Eligibility Information

1. Eligible Applicants

Applicants must be either a faith-based or community organization that is exempt from taxation pursuant to 26 U.S.C. 501(c)(3) at the time of application submission, or a government agency (such as a Workforce Investment Board, One-Stop Career Center, corrections agency, State or local government, housing authority). The applicant will be the lead organization that will represent a partnership system that consists of the public workforce system, the local corrections agency and other social services providers (including faith-based and community organizations). At least one of the contracted specialized service providers offered to participants must offer a program that contains no religious content.

As stated above, applicants must demonstrate the existence of a partnership with both their local Workforce Investment Board/One-Stop Career Center system and their local corrections agency. In addition to relationships with both these organizations and specialized services sub-contractors, collaborations are also encouraged with other entities, including child welfare and foster care agencies, substance abuse treatment providers, social service agencies, education and training providers, business representatives, transitional housing providers, health care providers, etc. These providers may fill a role as sub-grantees. A single organization, or its affiliates, cannot serve as both coordinator and specialized service provider.

ETA expects to make five awards including a minimum of two to faith-based and community organizations.

2. Grantee Resources

There is no matching requirement for these grants. However, applicants will be rated in part on their ability to demonstrate commitments of leveraged resources.

3. Other Eligibility Requirements

Beneficiary Eligibility. Individuals aged 18 to 29 who have been convicted of a Federal or State crime through the adult criminal justice system, are returning from a State institution, and are not currently enrolled in a traditional program may be served by these grants. This includes but is not limited to individuals returning from correctional facilities or detention centers, half-way houses, and those under State supervision that have transitioned from a State prison to a local jail prior to release. Participants must enroll in the program within 60 days after release from the criminal justice system.

Veterans Priority. This program is subject to the provisions of the “Jobs for Veterans Act,” (Pub. L. 107-288, 38 U.S.C. 4215), which provides priority of service to veterans and spouses of certain veterans for the receipt of employment, training, and placement services in any job training program directly funded, in whole or in part, by DOL. To obtain priority of service, a veteran must meet the program's eligibility requirements. ETA Training and Employment Guidance Letter (TEGL) No. 5-03 (Sept. 16, 2003) at http://www.doleta.gov/Seniors/other_docs/TEN5_03_VETS.pdf provides general guidance on the scope of the veterans priority statute and its effect on current employment and training programs.

Part IV. Application and Submission Information

1. Address To Request Application Package

This announcement includes all information and links to forms needed to apply for this funding opportunity.

2. Content and Form of Application Submission

The proposal must consist of two (2) separate and distinct parts, Parts I and II. Applications that fail to adhere to the instructions in this section will be considered non-responsive and will not be considered.

Part I of the proposal is the Cost Proposal and must include the following three items:

• The Standard Form (SF) 424, “Application for Federal Assistance” (also available at http://www.grants.gov/agencies/approved_standard_forms.jsp#1). The SF 424 must clearly identify the applicant and be signed by an individual with authority to enter into a grant agreement. Upon confirmation of an award, the individual signing the SF424 on behalf of the applicant shall be considered the authorized representative of the applicant.

• All applicants for Federal grant and funding opportunities are required to have a Dun and Bradstreet (DUNS) number. See Office of Management and Budget (OMB) Notice of Final Policy Issuance, 68 FR 38402 (June 27, 2003). Applicants must supply their DUNS number on the SF 424. The DUNS number is a nine-digit identification number that uniquely identifies business entities. Obtaining a DUNS number is easy and there is no charge. To obtain a DUNS number, access this Web site: http://www.dunandbradstreet.com or call 1-866-705-5711.

• The Budget Information Form SF 424A (available at http://www.doleta.gov/sga/forms.cfm). In preparing the SF 424A, the applicant must provide a concise narrative explanation to support the request. The budget narrative should break down the budget and leveraged resources by the project activities specified in the technical proposal and should discuss precisely how the administrative costs support the project goals. The budget narrative must also provide a detailed back-up budget that includes the number of staff to be hired by job title.

Part II of the application is the Technical Proposal, which demonstrates the applicant's capabilities to plan and implement the grant project in accordance with the provisions of this SGA. The guidelines for the content of the Technical Proposal are provided in Section V(1) of this SGA; emphasis should be placed on the areas listed in Section I(4) of this SGA. The Technical Proposal is limited to fifteen (15) double-spaced, single-sided 8.5 inch by 11 inch pages with twelve point text font and one-inch margins. Any pages over the 15 page limit will not be reviewed.

In addition, the applicant must provide:

• MOAs from the partnering agencies,

• MOAs from the specialized service providers,

• a time line outlining project activities, and a

• two-page Executive Summary summarizing the proposed project and applicant profile information including: (1) Applicant name; (2) project title; and (3) requested funding level.

These additional materials do not count against the fifteen (15) page limit for the Technical Proposal. The additional materials may not exceed (15) fifteen pages in addition to the Technical Proposal.

Please note that applicants that fail to provide a SF 424, SF 424A and/or a budget narrative will be removed from consideration prior to the technical review process. If the proposal calls for integrating WIA or other Federal funds or includes other leveraged resources, these funds should not be listed on the SF 424 or SF 424A Budget Information Form, but should be described in the budget narrative and in Part II of the proposal. The amount of Federal funding requested for the entire period of performance should be shown together on the SF 424 and SF 424A Budget Information Form. Applicants are also encouraged, but not required, to submit OMB Survey No. 1890-0014: Survey on Ensuring Equal Opportunity for Applicants, which can be found at http://www.doleta.gov/sga/forms.cfm.

Except for the discussion of match and leveraged resources in response to the evaluation criteria, no cost data or reference to prices should be included in the technical proposal. Please note that applicants should not send letters of commitment or support separately to ETA because letters are tracked through a different system and will not be attached to the application for review.

Applications may be submitted electronically on www.grants.gov or in hard-copy via U.S. mail, professional delivery service, or hand delivery. These processes are described in further detail in Section IV(3). Applicants submitting proposals in hard-copy must submit an original signed application (including the SF 424) and one (1) “copy-ready” version free of bindings, staples or protruding tabs to ease in the reproduction of the proposal by DOL. Applicants submitting proposals in hard-copy are also requested, though not required, to provide an electronic copy of the proposal on CD-ROM.

3. Submissions Dates, Times, and Address

The closing date for receipt of applications under this announcement is May 25, 2007. Applications must be received at the address below no later than 4 p.m. (Eastern Time), except as identified in the “Late Applications” paragraph below. Applications sent by e-mail, telegram, or facsimile (FAX) will not be accepted. Applications that do not meet the conditions set forth in this notice will not be considered. No exceptions to the mailing and delivery requirements set forth in this notice will be granted.

Mailed applications must be addressed to the U.S. Department of Labor, Employment and Training Administration, Division of Federal Assistance, Attention: Eric Luetkenhaus, Reference SGA/DFA PY-06-14, 200 Constitution Avenue, NW., Room N4716, Washington, DC 20210. Applicants are advised that mail delivery in the Washington area may be delayed due to mail decontamination procedures. Hand delivered applications will be received at the above address.

Applicants may apply online at http://www.grants.gov by the deadline specified above. Any application received after the deadline will not be accepted. For applicants submitting electronic applications via Grants.gov, please note that it may take several days to complete the “Get Started” steps to register with Grants.gov at http://www.grants.gov/GetStarted. It is strongly recommended that these applicants immediately initiate this step in order to avoid unexpected delays that could result in the disqualification of their application. If submitted electronically through http://www.grants.gov, applicants should save application documents as a .doc or .pdf file.

Late Applications. Any application received after the exact date and time specified for receipt at the office designated in this notice will not be considered, unless it is received before awards are made, was properly addressed, and: (a) Was sent by U.S. Postal Service registered or certified mail not later than the fifth calendar day before the date specified for receipt of applications (e.g., an application required to be received by the 20th of the month must be post marked by the 15th of that month) or (b) was sent by professional overnight delivery service or submitted on Grants.gov to the address not later than one working day prior to the date specified for receipt of applications. It is highly recommended that online submissions be completed one working day prior to the date specified for receipt of applications to ensure that the applicant still has the option to submit by overnight delivery service in the event of any electronic submission problems. “Post marked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of non-responsiveness. Evidence of timely submission by a professional overnight delivery service must be demonstrated by equally reliable evidence created by the delivery service provider indicating the time and place of receipt.

There will be an informational webinar held for this grant competition. Information on the date/time of this webinar and a recording for applicants who cannot attend will be available on http://www.dol.gov/cfbci.

4. Intergovernmental Review

This funding opportunity is not subject to Executive Order (EO) 12372, “Intergovernmental Review of Federal Programs.”

5. Funding Restrictions

All proposal costs must be necessary and reasonable in accordance with Federal guidelines. Determinations of allowable costs will be made in accordance with the applicable Federal cost principles, as identified in OMB Circulars A-122, A-87, A-21 or at 48 CFR part 31 (See 29 CFR 95.27, 97.22). Disallowed costs are those charges to a grant that the grantor agency or its representative determines not to be allowed in accordance with the applicable Federal cost principles or other conditions contained in the grant. Applicants will not be entitled to reimbursement of pre-award costs.

Regulations governing the treatment in government programs of religious organizations and religious activities can be found at 29 CFR part 2, subpart D. Grantees and subawardees are expected to be aware of and observe the regulations in this subpart. Provisions relating to the use of indirect Federal support, such as through vouchers or other choice mechanisms, are found within 29 CFR part 2, subpart D at 29 CFR 2.33(c) and at 20 CFR 667.266. Additional information about the proper, constitutional use of “indirect” Federal financial assistance can be found in Training and Employment Guidance Letter (TEGL) 1-05. See http://wdr.doleta.gov/directives/corr_doc.cfm?DOCN=2088.

Due to the fact that subawardees are paid through indirect funding (the beneficiary-choice contracting model), subawardees may make inherently religious activities (e.g. religious instruction, prayer, proselytizing, etc.) an integrated part of their federally-supported program and may require participants to participate in them. Indirect assistance may be used for religious activities, because the customer has exercised his/her genuine and independent choice by freely selecting the program with religious aspects or content from among a variety of options, both secular and religious. As a result, participation in the religious activities is considered voluntary. The recipient, therefore, may use indirect Federal assistance to train a participant in religious activities. However, pursuant to Section 188(a)(3) of the Workforce Investment Act of 1998, 29 U.S.C. 2938(a)(3), a subawardee may not employ participants to construct, operate, or maintain any part of any facility that is used or to be used for religious instruction or as a place for religious worship (except with respect to the maintenance of a facility that is not primarily or inherently devoted to sectarian instruction or religious worship, in a case in which the organization operating the facility is part of a program or activity providing services to participants). See 29 CFR 37.6(f).

Indirect Costs. As specified in OMB Circular Cost Principles, indirect costs are those that have been incurred for common or joint objectives and cannot be readily identified with a particular cost objective. In order to utilize grant funds for indirect costs incurred, the applicant must obtain an Indirect Cost Rate Agreement with its Federal cognizant agency either before or shortly after the grant award.

Administrative Costs. Under the WIA, Preparing Ex-Offenders for the Workplace through Beneficiary-Choice Contracting, an entity that receives a grant to carry out a project or program may not use more than 10 percent of the amount of the grant to pay administrative costs associated with the program or project. Administrative costs could be both direct and indirect costs and are defined at 20 CFR 667.220. Administrative costs do not need to be identified separately from program costs on the SF 424A Budget Information Form. They should be discussed in the budget narrative and tracked through the grantee's accounting system. Although there will be administrative costs associated with the managing of the partnership as it relates to specific grant activity, the primary use of funding should be to support the actual training activity(ies). To claim any administrative costs that are also indirect costs, the applicant must obtain an indirect cost rate agreement as described above.

Expenditures by the services coordinator on its own activities and expenses cannot account for more than 40% of total grant funds. This includes funds reserved for services and program administration, including technical assistance and oversight. At least 60% must be spent on services for participants through specialized service providers serving program participants.

6. Other Submission Requirements

Withdrawal of Applications. Applications may be withdrawn by written notice or telegram (including mailgram) received at any time before an award is made. Applications may be withdrawn in person by the applicant or by an authorized representative thereof, if the representative signs a receipt for the proposal.

V. Application Review Information

1. Rating Criteria

This section identifies and describes the criteria that will be used to evaluate the proposals submitted in response to this solicitation. These criteria and point values are:

Criterion | Points
A. Need for the Project | 10
B. Program Management and Organization Capacity | 25
C. Project Design and Service Strategy | 40
D. Linkages to Key Partners and Leveraged Resources | 25
Total Possible Points | 100

A. Need for the Project (10 Points)

The applicant should demonstrate the need for the project by providing information on the number of ex-offenders in the area to be served and the justification of the need for the project in the community served by the grant. Use local data to identify the number of ex-offenders between the ages of 18 and 29 returning to your community through the adult criminal justice system and how this compares with the State or county as a whole. If there are particular neighborhoods within the city in which you plan to focus this grant, describe these neighborhoods and provide available data specific to that area. If possible, provide such data for the specific neighborhoods that you plan to serve rather than county-wide data.

Discuss the services or lack of services in your area that exist to assist this population. Discuss the extent of criminal activity in the area that you will be serving and include all other information relevant to establishing the need for your project, including recidivism rate, crime rate, etc.

Discuss the proposed service strategy; describe how it will address the lack of services available in the area targeted for the grant activities and how it will ensure that participants are prepared for and placed and retained in jobs.

Scoring on this factor will be based on evidence of the following:

• The need in the area served, including the crime rate and annual number of returnees to your city, county, State and proposed targeted area; and

• The dearth of services provided to this population and how and why they need to be served.

• Your description of how the proposed service strategy will address the identified gaps and ensure that clients are prepared for, placed in, and retained in jobs.

B. Program Management and Organization Capacity (25 points)

The applicant should demonstrate the capability of providing the services proposed and of acting as the Services Coordinator.

The Services Coordinator must (1) provide basic services; (2) manage contracts; and (3) establish and maintain strong referral networks for services not funded by this grant.

(1) Provide Basic Services (5 Points). Describe the experience/capacity of staff (or criteria for staff you will hire) and the organization, in serving ex-offenders. In addition, and as stated above, these services should include but are not limited to the following:

• Identify and recruit participants;

• Provide basic intake services, including assessment of needs and interests;

• Offer each participant a free, independent, and informed choice among service providers—including at least one provider of secular non-religious-based services;

• Require informed consent forms from individuals choosing services that contain religious content;

• Provide ongoing case management (in coordination with the specialized services provider); and

• Aid recipients in making full use of all services available through local One-Stop Career Center, including, when possible, Individual Training Accounts.

• Recruit employers that are willing to employ program participants.

(2) Manage Contracts (10 Points). Describe the experience/capacity of the organization's staff in managing contracts and managing sub-contractors. Specifically include organizational capabilities and previous history of managing choice-based programs and data systems, infrastructure to manage and support choice-based programs, and any performance-based contracting experience. As stated above, these services should include but are not limited to the following:

• Design guidelines and baseline criteria for service provider organizations' participation. These objective criteria would require a level of quality in basic services offered. In addition, preference in selecting specialized service provider contractors should be given to organizations that provide a diverse offering of supplementary services;

• Recruit a minimum of five specialized service providers—including FBCOs;

• Ensure at least one at least one provider of secular non-religious-based services;

• Establish performance-based contracts with service provider organizations;

• Develop a data collection strategy and oversee the management information system (MIS) grant data collection procedures and compilation for all partners in the program;

• Aid service providers in complying with necessary reporting and other compliance issues;

• Deliver contract payments to service providers; and

• Perform all other aspects of managing the Federal grant—including fiscal controls.

(3) Establish and Maintain a Strong Referral Network (10 Points). Describe the experience/capacity of the applicant and key grantee staff in working with other organizations that provide different services. Service coordinators must also develop a referral system to address participant needs beyond those addressed by the core services. The service coordinator must develop a functional referral system to provide participants referrals to other specialized services beyond core services that might not be met through specialized service providers. Through this referral process the service coordinator will ensure that that there is at least one provider of non-religious-based (secular) service if that same specialized service is offered through religious-based service by the sub-contractors. Services that the coordinator may provide referrals for include transitional housing, substance abuse treatment, health services (including mental health services and counseling), continuing education system (including alternative schools and community colleges), and the One-Stop Career Center. The services coordinator will maintain relationships with organizations/entities offering these specialized services and must keep updated information on each referral partner to ensure there is always a current list of referral partners. This referral list must be kept separate from the specialized service provider list.

The applicant must also include a description of organizational capacity and the organization's track record as an intermediary, working with this population, and managing a grant of this size. Applicants must identify a project manager, discuss the proposed staffing pattern and the qualifications and experience of key staff members, provide detailed descriptions of the roles of the participating partners, and give evidence of the existence and utilization of data systems to track outcomes.

Scoring on this factor will be based on evidence of the following:

• The organization's capabilities and previous history of providing case management and assessment services to ex-offenders, including the basic services previously listed, managing grants and sub-contractors, including those compensated through a performance-based process, and developing and maintaining strong partnerships with community service providers to which participants might be referred. Applicants must demonstrate the infrastructure to manage and support this type of program.

• The time commitment of the proposed staff is sufficient to assure proper direction, management, and timely completion of the project.

• The roles and contribution of staff, consultants, and collaborative organizations are clearly defined and linked to specific objects and tasks.

• The background, experience, and other qualifications of the staff are sufficient to carry out their designated roles.

• The applicant organization has the capacity to accomplish the goals and outcomes of the project, including project management, has appropriate systems to track outcome data and establishes and maintains a strong referral network.

• The proposed referral plan including ensuring that that there is at least one provider of non-religious-based (secular) service if that same specialized service is offered through religious-based service by the sub-contractors.

C. Project Design and Service Strategy (40 points)

Please describe your project design and service strategy. This section should be divided into six parts.

I. Requirements for and Identification of Specialized Service Providers.

II. Recruiting and Referral from the Criminal Justice System.

III. Assessment and Initial Services for Participants.

IV. Participant Opportunity to Choose/Referral to Specialized Provider.

V. Case Management, Relationship with the Workforce Investment System and Referral for Supplemental Services or Training.

VI. Expected Outcomes and Follow-Up Management with Specialized Providers and Ensuring Appropriate Grants Management and Outcomes.

I. Requirements for and Identification of Specialized Service Providers (5 Points)

Describe the baseline requirements that are needed for organizations to become specialized service providers. How will the applicant identify and recruit a diversity of specialized service providers, including faith-based and community organizations? What types of agreements will the applicant enter into with these organizations? What steps will the applicant take (or has the applicant taken) to ensure that there is at least one provider of secular non-religious-based services? What procedures with the applicant employ to ensure adequate diversity in services provided by the selected specialized services providers—including preference in selecting specialized service provider contractors should be given to organizations that provide a diverse offering of supplementary services? The applicant must submit a detailed Memorandum of Agreement (MOA) with at least three specialized service providers that describe the specialized service provider's firm commitment to act as a subcontractor in the program. This will describe the role of the services coordinator and specialized service provider, the services provided, and the method of payment for these services. A minimum of five specialized service providers must be a part of each grant program when services begin.

Scoring on this criterion will be based on the applicant's ability to demonstrate:

• The existence of an outreach/identification strategy which will be aggressive, inclusive and clear for potential providers—including faith based and community organizations and at least one non-religious provider.

• The existence of guidelines and baseline criteria for service provider organizations' participation. These objective criteria would require a level of quality in basic services offered. In addition, preference in selecting specialized service provider contractors should be given to organizations that provide a diverse offering of supplementary services.

• A plan for recruiting additional specialized service providers, including identification of basic requirement for participation as a specialized service provider, and what additional services the applicant anticipates will be provided by additional specialized service providers.

• MOAs with at least three specialized service providers. MOAs with additional specialized service providers are encouraged. A minimum of five specialized service providers must be a part of each grant program when services begin.

II. Recruiting and Referral From the Criminal Justice System (5 Points)

Describe how participants will be recruited into the program. Identify and describe how the criminal justice system partners will refer participants to the program. Describe how coordination and communication will be maintained between probation and parole offices and the applicant, in the areas of recruiting, pre-release service provision, program participation and follow-up.

Scoring on this criterion will be based on the applicant's ability to demonstrate:

• The existence of a sound strategy for coordinating with the local criminal justice system for the referral of, and joint services for, participants into the program; and

• The existence of a sound strategy for coordinating with the probation and parole offices throughout program involvement and during post-program follow-up.

III. Assessment and Initial Services for Participants (5 Points)

Describe the services that will be provided to the participants when they are recruited into the program. Identify what assessment tools and methods will be used to determine the skills, aptitudes and needs of participants. Describe the specific strategies and methods that will be used to meet the different needs of the participant and how these build on services already available in the community.

Scoring on this criterion will be based on the applicant's ability to demonstrate:

• A quality assessment that will provide the applicant with the proper information needed to meet all of the needs of the participant, both through specialized service providers, and referrals to other community services.

IV. Participant Opportunity to Choose/ Referral to Specialized Provider (5 Points)

Applicants should explain how participants will be referred once he or she has chosen a specialized services provider. Applicants will also describe how this choice will be explained to program participants and the process that will be used for the referral. Describe examples of specialized service providers and the types of services they will provide.

Scoring on this criterion will be based on the applicant's ability to demonstrate:

• A clear plan for how a free, independent and informed choice of service providers will be presented to and made by the participant.

V. Case Management, Relationship with the Workforce Investment System and Referral for Supplemental Services or Training (5 Points)

Describe the case management strategy that your organization will use throughout the program. What services will be provided through case management and how often will you communicate with the participant to make sure he/she receives the services that are needed. Describe how the applicant will coordinate case management with the specialized services providers.

Describe the approach that will be used in the project, including the sequence of services (i.e., assessments, training, etc.), how the specific services for participants are determined, and which partner/specialized service provider will provide which services. In addition, identify the supportive services that will be provided to participants and describe how such services will facilitate participation. Identify which support services will be provided by the grantee pre- and post-placement, as well as intra- and post-training. Indicate which services will be provided by project partners or from sources other than the grant.

Describe the job placement strategies that will be used in the program. Describe the rationale for deciding which services are necessary for participants to attain, retain or advance in the job. Discuss the extent to which the One-Stop Career Center will assist in the job training, placement and retention efforts.

Describe the approach for referring participants to supplemental services or training available from existing service providers in the community. Scoring on this criterion will be based on the applicant's ability to demonstrate:

• A continuous and coordinated case management plan that will assist the participant through the entire program—including post placement;

• The link between the basic service provider (the grantee), the specialized service provider, the workforce investment system, the criminal justice system, and other needed supportive services;

• The referral process for linking participants to non-partner service and job training providers operating in the community.

VI. Expected Outcomes and Follow-Up Management With Specialized Providers and Ensuring Appropriate Grants Management and Outcomes (15 Points)

DOL expects that each project site will serve 225 ex-offenders through the adult criminal justice system, ages 18-29, each year and that outcomes will include placement in employment, job retention, and reduced recidivism. While it is recognized that some participants will not achieve the desired outcomes, to be counted toward the 225 “served” a participant must receive at least registration and case management and be enrolled by the specialized service provider. At least 200 participants must receive soft-skills training and career counseling from a specialized service provider.

As DOL expects this definition to be used for determining the number of participants served, applicants should expect to enroll more than 225 individuals as some participants may not arrive at the specialized service provider to which they are referred.

As stated before, four outcome measures will be used to measure success in these grants: entered employment rate, employment retention rate, earnings, and recidivism rate. In addition, grantees will report on a number of leading indicators that will serve as predictors of success. Leading indicators will include: enrollment rate; participation in education/training; workforce preparation; mentoring; attainment of degrees and certificates; reduced substance abuse; proportion of enrollees in stable housing (beyond 90 days post-release); and proportion of enrollees complying with parole conditions.

Discuss the outcomes for the proposed project and how these outcomes will be attained, taking into consideration that participants entering this program may have low basic skills levels and may require extensive remediation and skills training. Also provide realistic numerical goals for each of these outcome measures. The discussion of outcome goals should include the methods proposed to collect and validate outcome data in a timely and accurate manner. Note that these will represent the expected levels of performance. DOL will negotiate the actual levels of performance on these measures with grantees after grant award.

Discuss the payment system for services provided.

Discuss the data collected/reporting system for both the specialized services provider and the Service Coordinator. It is required that all applicants track employment for at least six months and recidivism for at least one year.

Discuss the follow-up services that will be provided by the applicant and the specialized service provider after the participant has been placed into employment.

Also, provide a timeline outlining project activities, including expected start-up, implementation, participant follow-up for performance outcomes, grant close-out and other activities. Provide an MOA from at least three potential specialized service providers. Describe a plan for sustainability once the grant is over, including a timeline. Describe efforts the applicant will make to ensure that the program is replicable.

Scoring on this criterion will be based on the applicant's ability to demonstrate:

• A service plan/project design that provides solutions to the challenges experienced by the ex-offender population to be served while addressing the need for training, employment and job retention;

• Outcomes projected for the program, including whether the program structure is likely to produce the stated outcomes;

• A solid data collection system that effectively tracks participants and outcomes;

• A solid management structure that includes a payment schedule for specialized service providers;

• The existence of a work plan that is responsive to the applicant's statement of need and target population, and that includes specific goals, objectives, activities, implementation strategies, and a timeline;

• The ability of the applicant to achieve the stated outcomes within the time frame of the grant;

• The appropriateness of the outcomes with respect to the requested level of funding;

• The appropriateness of the payment system for services provided;

• An MOA with at least three specialized service providers;

• The extent to which the project is sustainable; and

• The extent to which the project is replicable.

D. Linkages to Key Partners and Leveraged Resources (25 points)

Linkages to Key Partners (20 points). Applicants must demonstrate the existence of partnerships. DOL encourages, and will be looking for, applications that go beyond the minimum level of partnerships and demonstrate broader, substantive, and sustainable partnerships. The applicant must identify the partners and explain the meaningful role each partner plays in the project as well as how resources will be leveraged among the partners.

Describe plans to work as a partner with the local One-Stop Career Center to help the target population receive services, enter employment, and succeed in the workforce. If the applicant has not previously worked with a One-Stop Career Center, describe actions you have taken to develop a relationship with a One-Stop Career Center. If the applicant has worked with a One-Stop Career Center in the past, describe what actions have been taken to further develop the relationship. Attach an MOA from the local One-Stop Operator describing the formal referral partnership with the local Workforce Investment Boards and/or local One-Stop Operator(s) with whom the applicant is working or with whom the applicant has developed a relationship as this proposal has been developed. The MOA should define the applicant's plans to create a formal referral relationship with the One-Stop Career Center as a provider of services that complement the services offered by the One-Stop Career Center. This formal partnership should produce two-way client referrals from the One-Stop Career Center to the applicant and from the applicant to the One-Stop Career Center on which the applicant will be required to report.

Describe plans to work as a partner with the local corrections agency. Attach an MOA from at least one local corrections agency with which the applicant will work on this project. This document should also describe the corrections agency's firm commitment to enter a formal referral partnership with the applicant. Discuss how this partnership will produce referrals from the local detention facility to the grantee. If applicable, discuss planned pre-release sessions with soon-to-be-released inmates on the specific elements of the proposed program—especially in the area of mentoring. The letter must describe that the corrections agency has acknowledged that the applicant organization provides reentry services that will assist former inmates. If possible, the letter should also include the corrections agencies agreement to assist in tracking recidivism of participants. If an agreement with the local corrections agency is not provided, the applicant should, at a minimum, demonstrate that the agency was contacted and provided a sufficient opportunity for response. Similar agreements with parole and probation agencies are also encouraged.

Describe the relationships the applicant has with other non-profit organizations that provide similar or complementary services. Explain how the applicant will leverage pre-existing relationships and partnerships to help achieve the proposed goals for the target populations and how the applicant will avoid duplication of existing services. If no relationships with other non-profit organizations exist, explain the reason and how the applicant plans to develop new relationships.

Scoring on this criterion will be based on: (a) the applicants ability to fully demonstrate the comprehensiveness of the partnerships and the degree to which each partner plays a committed role, either financial or non-financial in the proposed project; (b) the breadth and depth of each key partner's contribution, their knowledge and experience concerning grant activities and their ability to impact the success of the project; and (c) evidence, including MOAs, that key partners have expressed a clear dedication to the project and understand their areas of responsibility.

Important factors include:

• The extent to which the project will work collaboratively with the public workforce investment system;

• The extent to which the project will work collaboratively with the local corrections agency;

• The number of partners involved and their knowledge and experience concerning the proposed grant activities, and their ability to impact the success of the project;

• The overall completeness of the partnership, including its ability to manage all aspects and stages of the project and to coordinate individual activities with the partnership as a whole;

• Evidence that key partners have expressed a clear commitment to the project and understand their areas of responsibility, including an MOA from the key partners;

• Evidence of a plan for interaction between partners at each stage of the project, from planning to execution; and

• Evidence that the partnership has the capacity to achieve the outcomes of the proposed project.

Leveraged Resources (5 points). Applicants should clearly describe any funds and resources leveraged in support of grant activities and demonstrate how these funds will be used to contribute to the goals of the project. Applicants must describe in detail how such funds will be used, the source of funds, and how these funds will contribute to the goals of the project. This applies to funds leveraged from businesses, faith-based and community organizations, and Federal, State, local and/or private organizations. The description of leveraged resources must be supported by explicit MOAs and describe the resource amount and type (in-kind, cash, etc.). For any leveraged resources, applicants should fully describe through the MOA how the value of the resources was calculated and how those resources support the grant program.

Scoring on this factor will be based on the extent to which the applicant fully describes the amount, commitment, nature, and quality of leveraged resources. Applicants will be scored based on the degree to which the source and use of funds is clearly explained and the extent to which leveraged resources are fully integrated into the project to support grant outcomes. Important elements of the explanation include:

• Which partners have contributed leveraged resources and the extent of each contribution, including an itemized description of each contribution;

• The quality of leveraged resources, including the purpose of the funds and the extent to which each contribution will be used to further the goals of the project; and

• Evidence, stated in the MOAs, that key partners have expressed a clear commitment to provide the contribution.

2. Review and Selection Process

Applications will be accepted after the publication of this announcement until the closing date. A technical review panel will make careful evaluation of applications against the criteria set forth in Section V.1 of this Solicitation. These criteria are based on the policy goals, priorities, and emphases set forth in this SGA. Up to 100 points may be awarded to an application based on the required information described in Section V of this Solicitation. The ranked scores will serve as a primary basis for selection of applications for funding, in conjunction with other factors such as urban, rural, and geographic balance; the availability of funds; the proportion of governmental and non-profit grantees; and which proposals are most advantageous to the Government. The panel results are advisory in nature and not binding on the Grant Officer, who may consider any information that comes to his attention. DOL may elect to award the grant(s) with or without prior discussions with the applicants. Should a grant be awarded without discussions, the award will be based on the applicant's signature on the SF 424, which constitutes a binding offer.

Part VI. Award Administration Information

1. Award Notices

All award notifications will be posted on the ETA Homepage at http://www.doleta.gov.

2. Administrative and National Policy Requirements

All grantees, including faith-based organizations, will be subject to all applicable Federal laws (including provisions of appropriation laws), regulations, and the applicable OMB Circulars. The applicants selected under this SGA will be subject to the following administrative standards and provisions, if applicable:

• Workforce Investment Act—20 Code of Federal Regulations (CFR) Part 667 (General Fiscal and Administrative Rules).

• The Workforce Investment Act of 1998, U.S.C. 2801 et seq.

• Workforce Investment Act Regulations codified at (20 CFR pts. 660-671).

• OMB Circulars, A-122 Cost Principles, A-21 Cost Principles, A-87 Cost Principles, 48 CFR part 31 Cost Principles.

• 29 CFR part 2, Subpart D—Equal Treatment in Department of Labor Programs for Religious Organizations, Protection of Religious Liberty of Department of Labor Social Service Providers and Beneficiaries;

• 29 CFR part 31—Nondiscrimination in Federally Assisted Programs of the Department of Labor—Effectuation of Title VI of the Civil Rights Act of 1964;

• 29 CFR part 32—Nondiscrimination on the Basis of Handicap in Programs and Activities Receiving or Benefiting from Federal Financial Assistance;

• 29 CFR part 35—Nondiscrimination on the Basis of Age in Programs or Activities Receiving Federal Financial Assistance from the Department of Labor;

• 29 CFR part 36—Nondiscrimination on the Basis of Sex in Education Programs or Activities Receiving Federal Financial Assistance;

• 29 CFR part 37—Implementation of the Nondiscrimination and Equal Opportunity Provisions of the Workforce Investment Act of 1998 (WIA).

• 29 CFR part 93—Lobbying;

• 29 CFR part 95—Grants and Agreements with Non-Profit Organizations, Commercial Organizations, International Organizations, Foreign Governments, and Others;

• 29 CFR part 96—Audit Requirements for Grants, Contracts and Other Agreements;

• 29 CFR part 97—Uniform Administrative Requirements for Grants and Cooperative Agreements to State and Local Governments;

• 29 CFR part 98—Government-wide Debarment and Suspension (Non-Procurement) and Government-wide Requirements for Drug-Free Workplace; and

• 29 CFR part 99—Audits of States, Local Governments, and Non-Profit Organizations.

Note: Except as specifically provided in this notice, ETA's acceptance of a proposal and award of Federal funds to sponsor any programs(s) does not provide a waiver of any grant requirements and/or procedures. For example, the OMB Circulars require that an entity's procurement procedures must ensure that all procurement transactions are conducted, as much as practical, to provide full and open competition. If a proposal identifies a specific entity to provide services, ETA's award does not provide the justifications or basis to sole-source the procurement, i.e., avoid competition, unless the activity is regarded as the primary work of an official partner to the application.

3. Reporting Requirements

Successful applicants will be required to submit performance information as well as Quarterly Financial Reports and Quarterly Progress Reports.

Quarterly Financial Reports. A Quarterly Financial Status Report (SF 269) is required until such time as all funds have been expended or the grant period has expired. Quarterly financial reports are due thirty days after the end of each calendar year quarter. Grantees must use ETA's On-Line Electronic Reporting System.

Quarterly Progress Reports. The grantee must submit a quarterly progress report to the designated Federal Project Officer within thirty days after the end of each calendar year quarter. Two copies are to be submitted providing a detailed account of activities undertaken during that quarter. The Department may require additional data elements to be collected and reported on either a regular basis or special request basis. Grantees must agree to meet the Department's reporting requirements.

The quarterly progress report should be in narrative form and must include:

1. In-depth information on accomplishments, including number of clients served, which services were provided, referrals made, recidivism statistics, project success stories, upcoming grant activities, promising approaches and processes, and progress in achieving performance outcomes;

2. Challenges, barriers, or concerns regarding project progress;

3. Lessons learned in the areas of project administration and management, successful referral structures, project implementation, partnership relationships and other related areas.

MIS Data. Grantees will be required to submit updated MIS data on enrollment, services provided, placements, outcomes, and follow-up status. DOL will coordinate with sites after grant award to implement an MIS system for this project.

Part VII. Agency Contacts

Any technical questions regarding this SGA should be faxed to Melissa Abdullah, Grants Management Specialist, Division of Federal Assistance, at (202) 693-2705. This is not a toll-free number. You must specifically address your fax to the attention of Melissa Abdullah and should include SGA/DFA PY 06-14, a contact name, fax, and telephone number.

FOR FURTHER INFORMATION CONTACT: Please contact Melissa Abdullah, Grants Management Specialist, Division of Federal Assistance, on (202) 693-3346. This is not a toll-free number.

This announcement is also being made available on the ETA Web site at http://www.doleta.gov/sga/sga.cfm and http://www.grants.gov.

Part VIII. Other Information

OMB Information Collection No. 1205-0458.

Expires September 30, 2009.

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the U.S. Department of Labor, the OMB Desk Officer for ETA, Office of Management and Budget, Room 10235, Washington, DC 20503. PLEASE DO NOT RETURN YOUR COMPLETED APPLICATION TO THE OMB. SEND IT TO THE ADDRESS PROVIDED IN PART IV OF THIS SOLICITATION.

This information is being collected for the purpose of awarding a grant. The information collected through this “Solicitation for Grant Applications” will be used by the Department of Labor to ensure that grants are awarded to the applicant best suited to perform the functions of the grant. Submission of this information is required in order for the applicant to be considered for award of this grant. Unless otherwise specifically noted in this announcement, information submitted in the respondent's application is not considered to be confidential.

Resources for the Applicant

DOL maintains a number of web-based resources that may be of assistance to applicants. The webpage for the DOL Center for Faith-Based and Community Initiatives (http://www.dol.gov/CFBCI) is a valuable source of background on the President's Initiative at the Department of Labor. It also contains valuable information on prisoner reentry. America's Service Locator (http://www.servicelocator.org) provides a directory of our nation's One-Stop Career Centers. Applicants are encouraged to review “Understanding the Department of Labor Solicitation for Grant Applications and How to Write an Effective Proposal” (http://www/dol.gov/cfbci/sgabrochure.htm).

Signed at Washington, DC, this 11th day of April, 2007.
Eric D. Luetkenhaus,
Grant Officer, Employment and Training Administration.

[FR Doc. E7-7151 Filed 4-13-07; 8:45 am]

BILLING CODE 4510-FT-P